DEPARTMENT OF LABOR

Employment and Training Administration

“Pell Grants and the Payment of Unemployment Benefits to Individuals in Approved Training,” Extension Without Change; OMB Control No. 1205-0473

AGENCY: Employment and Training Administration.

ACTION: Notice.

SUMMARY: The Department of Labor, as part of its continuing effort to reduce paperwork and respondent burden conducts a preclearance consultation program to provide the general public and federal agencies with an opportunity to comment on proposed and/or continuing collections of information in accordance with the Paperwork Reduction Act of 1995 (PRA 95) [44 U.S.C. 3506(c)(2)(A)]. This program helps to ensure that requested data can be provided in the desired format, reporting burden (time and financial resources) is minimized, collection instruments are clearly understood, and the impact of collection requirements on respondents can be properly assessed.

In response to the American Recovery and Reinvestment Act (ARRA), the Employment and Training Administration is soliciting comments concerning state UI agencies' notifying UI beneficiaries that they may be able to obtain training using Pell Grants while continuing to collect UI and to give them information about how to apply. This notice utilizes standard clearance procedures in accordance with the Paperwork Reduction Act of 1995 and 5 CFR 1320.12. This information collection follows an emergency review that was conducted in accordance with the Paperwork Reduction Act of 1995 and 5 CFR 1320.13. The submission for OMB emergency review was approved on May 8, 2009. A copy of this Information Collection Request (ICR) can be obtained from the RegInfo.gov Web site at http://www.reginfo.gov/public/do/PRAMain.

DATES: Written comments must be submitted to the office listed in the addressee's section below on or before November 27, 2009.

ADDRESSES: Submit written comments to U.S. Department of Labor, Employment and Training Administration, Office of Employment Security, attn: Scott Gibbons, Room S-4231, 200 Constitution Avenue, NW, Washington, DC 20210. Telephone number: 202-693-3008 (this is not a toll-free number).

SUPPLEMENTARY INFORMATION:

I. Background

To enable more individuals to obtain job training while receiving unemployment benefits, so they can develop their skills while the economy recovers, states are strongly encouraged to widen their definitions of the types of training and the conditions under which education or training are considered “approved training” for purposes of the state's UI law.

States are also encouraged to notify unemployed individuals of their potential eligibility for Pell Grants and to assist individuals with applications. Pell Grants are awarded based on financial need and other factors. Many UI beneficiaries are potentially eligible for Pell Grants, and the Department of Education is currently undertaking a major effort to encourage student financial aid administrators to use the discretion available to them in determining if UI beneficiaries are eligible for Pell Grants. Through information dissemination, the Department of Labor is encouraging state UI agencies to notify UI beneficiaries that they may qualify for Pell Grants and to give them information about how to apply. States are strongly encouraged to determine if their approved training requirements are appropriate to the current economy. Post-secondary education and training are increasingly important for success in the job market. Periods of unemployment, particularly in the current economic climate, provide opportunities for laid-off workers to develop new skills, so that employers will benefit from a skilled workforce when the economy recovers. In particular, states are asked to consider approval of courses at community colleges with significant job skills components, courses leading to general equivalency degrees, courses in adult basic education, language courses, or other courses of study, including degree and certificate courses that are likely to increase the individual's long-term employability.

II. Review Focus

The Department of Labor is particularly interested in comments which:

* Evaluate whether the proposed collection of information is necessary for the proper performance of the functions of the agency, including whether the information will have practical utility;

* Evaluate the accuracy of the agency's estimate of the burden of the proposed collection of information, including the validity of the methodology and assumptions used;

* Enhance the quality, utility, and clarity of the information to be collected; and

* Minimize the burden of the collection of information on those who are to respond, including through the use of appropriate automated, electronic, mechanical, or other technological collection techniques or other forms of information technology, e.g., permitting electronic submissions of responses.

III. Current Actions

Type of Review: Extension without changes.

Title: Pell Grants and the Payment of Unemployment Benefits to Individuals in Approved Training.

OMB Number: 1205-0473.

Affected Public: State Workforce Agencies.

Total Respondents: 53.

Frequency of Collection: Once.

Total Responses: 53.

Average Time per Respondent: 40 hours.

Estimated Total Burden Hours: 2120.

Total Annual Costs Burden: $0.

Comments submitted in response to this comment request will be summarized and/or included in the request for Office of Management and Budget approval of the information collection request; they will also become a matter of public record.

Dated This 23rd day of September, 2009.
Jane Oates,
Assistant Secretary, Employment and Training Administration.

[FR Doc. E9-23372 Filed 9-25-09; 8:45 am]

BILLING CODE 4510-FN-P